DEPARTMENT OF ENERGY

Federal Energy Regulatory Commission

[Docket Nos. CP00-61-001 and CP00-61-002]

Central New York Oil and Gas Company, LLC; Notice of Compliance Filing

November 9, 2001.

Take notice that on October 31, 2001, as amended on November 9, 2001, Central New York Oil and Gas Company, LLC (CNYOG) tendered for filing its FERC Gas Tariff, Original Volume No. 1, consisting of Sheet Nos. 0-140, to be effective December 1, 2001.

CNYOG asserts that the purpose of its filing is to comply with the Commission's order issued February 23, 2001, in Docket Nos. CP00-61-000, CP00-62-000, and CP00-63-000 granting CNYOG's request for certificates for construction of the Stagecoach Storage Project, a natural gas storage field in south central New York (Central New York Oil and Gas Company and Tennessee Gas Pipeline Company, 94 FERC ¶ 61,194 (2001)). In that order the Commission directed CNYOG to file its tariff at least thirty days prior to providing service from the Stagecoach Storage Project.

CNYOG further asserts that it has served copies of this filing upon all parties of record in these proceedings and interested state commissions. Any question concerning this filing may be directed to counsel for CNYOG, James F. Bowe, Jr., Esq., Dewey Ballantine LLP at (202) 429-1444, fax (202) 429-1579, or via the internet at jbowe@deweyballantine.com.

Any person desiring to be heard or to protest said filing should file a Motion To Intervene or Protest with the Federal Energy Regulatory Commission, 888 First Street, NE., Washington, DC 20426, in accordance with sections 385.211 and 385.214 of the Commission's rules of practice and procedure (18 CFR 385.211 and 385.214) by November 16, 2001. All such motions or protests must be filed as provided in section 157.10 of the Commission's regulations (18 CFR 157.10). Protests will be considered by the Commission in determining the appropriate action to be taken, but will not serve to make protestants parties to the proceeding. Any person wishing to become a party to the proceeding must file a Motion To Intervene. Copies of this filing are on file with the Commission and are available for public inspection. This filing may also be viewed on the Internet at http://www.ferc/fed/us/online/rims.htm (call (202) 208-2222 for assistance). Comments and protests may be filed electronically via the Internet in lieu of paper. See 18 CFR 385.2001(a)(1)(iii) and the instructions on the Commission's Web site at http://www.ferc.fed.us/efi/doorbell.htm.

Linwood A. Watson, Jr.,
Acting Secretary.

[FR Doc. 01-28779 Filed 11-16-01; 8:45 am]

BILLING CODE 6717-01-P